DEPARTMENT OF DEFENSE

Office of the Secretary

Meeting of the Defense Advisory Committee on Women in the Services (DACOWITS)

AGENCY: Department of Defense.

ACTION: Notice.

SUMMARY: The Department of Defense is publishing this notice to announce that the following Federal Advisory Committee meeting of the Defense Advisory Committee on Women in the Services (DACOWITS) will take place. This meeting is open to the public.

DATES: Wednesday, December 9, 2015, from 8:00 a.m. to 3:30 p.m.; Thursday, December 10, 2015, from 8:00 a.m. to 10:15 a.m.

ADDRESSES: Hilton Alexandria—Mark Center, 5000 Seminary Road, Alexandria, VA 22311.

FOR FURTHER INFORMATION CONTACT: Mr. Robert Bowling or DACOWITS Staff at 4800 Mark Center Drive, Suite 04J25-01, Alexandria, Virginia 22350-9000. Robert.d.bowling1.civ@mail.mil. Telephone (703) 697-2122. Fax (703) 614-6233. Any updates to the agenda or any additional information can be found at http://dacowits.defense.gov/.

SUPPLEMENTARY INFORMATION: Pursuant to the Federal Advisory Committee Act of 1972 (5 U.S.C. Appendix, as amended), the Government in the Sunshine Act of 1976 (5 U.S.C. 552b), and Section 10(a), Public Law 92-463, as amended, notice is hereby given of a forthcoming meeting of the Defense Advisory Committee on Women in the Services (DACOWITS).

The purpose of the meeting is for the Committee to receive briefings and updates relating to their current work. The Committee will start the meeting with a vote on the 2015 Annual Report. The Designated Federal Officer will then give a status update on the Committee's requests for information. There will be panels with the Services to review their single-parent recruiting policies, dual military co-location policies, and height, weight, and body composition policies. The Sexual Assault Prevention and Response Office (SAPRO) will give an update briefing on retaliation. There will be a public comment period at the end of day one. On the second day the Committee will receive a briefing from Insight Policy Research on the comparison of generational differences of today's military personnel. The Committee will also announce their 2016 meeting dates and discuss and vote on their 2016 study topics.

Pursuant to 41 CFR 102-3.140, and section 10(a)(3) of the Federal Advisory Committee Act of 1972, interested persons may submit a written statement for consideration by the Defense Advisory Committee on Women in the Services. Individuals submitting a written statement must submit their statement to the point of contact listed at the address in FOR FURTHER INFORMATION CONTACT no later than 5:00 p.m., Tuesday, December 1, 2015. If a written statement is not received by Tuesday, December 1, 2015, prior to the meeting, which is the subject of this notice, then it may not be provided to or considered by the Defense Advisory Committee on Women in the Services until its next open meeting. The Designated Federal Officer will review all timely submissions with the Defense Advisory Committee on Women in the Services Chair and ensure they are provided to the members of the Defense Advisory Committee on Women in the Services. If members of the public are interested in making an oral statement, a written statement should be submitted. After reviewing the written comments, the Chair and the Designated Federal Officer will determine who of the requesting persons will be able to make an oral presentation of their issue during an open portion of this meeting or at a future meeting. Pursuant to 41 CFR 102-3.140(d), determination of who will be making an oral presentation is at the sole discretion of the Committee Chair and the Designated Federal Officer and will depend on time available and if the topics are relevant to the Committee's activities. Five minutes will be allotted to persons desiring to make an oral presentation. Oral presentations by members of the public will be permitted only on Wednesday, December 9, 2015 from 3:00 p.m. to 3:30 p.m. in front of the full Committee. The number of oral presentations to be made will depend on the number of requests received from members of the public.

Pursuant to 5 U.S.C. 552b and 41 CFR 102-3.140 through 102-3.165, this meeting is open to the public, subject to the availability of space.

Meeting Agenda

Wednesday, December 9, 2015, From 8:00 a.m. to 3:30 p.m.

—Welcome, Introductions, Announcements

—Committee Votes on and Signs 2015 Annual Report

—Request for Information Status Update

—Panel—Services' Single Parent Recruiting Policies

—Panel—Services' Dual Military Co-Location Policies

—Panel—Services' Height, Weight and Body Composition Policies

—Briefing—Sexual Assault (Retaliation) Update

—Public Comment Period

Thursday, December 10, 2015, From 8:00 a.m. to 10:15 a.m.

—Welcome and Announcements

—Committee Announces 2016 Meeting Dates

—Briefing—Today's Military: Generational Review and Comparison

—Committee Discusses and Votes on 2016 Study Topics

Dated: November 17, 2015.
Aaron Siegel,
Alternate OSD Federal Register Liaison Officer, Department of Defense.

[FR Doc. 2015-29649 Filed 11-19-15; 8:45 am]

BILLING CODE 5001-06-P